NUCLEAR REGULATORY COMMISSION

[Docket Nos.: 50-275 and 50-323; NRC-2013-0100]

Diablo Canyon Power Plant, Units 1 and 2; Application for Amendment to Facility Operating License

AGENCY: Nuclear Regulatory Commission.

ACTION: License amendment application; withdrawal.

SUMMARY: The U.S. Nuclear Regulatory Commission (NRC) has granted the request of the Pacific Gas and Electric Company (the licensee) to withdraw its application dated December 29, 2009, as supplemented by letter dated November 22, 2011 (ADAMS Accession Nos. ML100040087 and ML113270063, respectively), for a proposed amendment to Facility Operating License Nos. DPR-80 and DPR-82 for the Diablo Canyon Power Plant, Units 1 and 2, located in San Luis Obispo County, California.

ADDRESSES: Please refer to Docket ID NRC-2013-0100 when contacting the NRC about the availability of information regarding this document. You may access information related to this document, which the NRC possesses and are publicly available, using any of the following methods:

• Federal Rulemaking Web site: Go to http://www.regulations.gov and search for Docket ID NRC-2013-0100. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: James T. Polickoski, Project Manager, Office of Nuclear Reactor Regulation, U.S. Nuclear Regulatory Commission, Washington, DC 20555; telephone: 301-415-5430; email: james.polickoski@nrc.gov.

SUPPLEMENTARY INFORMATION: The proposed amendment would revise the licensing basis as described in the Final Safety Analysis Report Update to discuss the conformance of the delayed access offsite power circuit (the 500-kV delayed access circuit) to the General Design Criterion 17 requirement that each of the offsite power circuits be designed to be available in sufficient time following a loss of all onsite alternating current power supplies and the other offsite electric power circuit, to assure that specified acceptable fuel design limits and design conditions of the reactor coolant pressure boundary are not exceeded.

The Commission had previously issued a Notice of Consideration of Issuance of Amendment published in the Federal Register on March 23, 2010 (75 FR 13790). However, by letter dated March 14, 2013, the licensee withdrew the proposed change.

For further details with respect to this action, see the application for amendment dated December 29, 2009, as supplemented by letter dated November 22, 2011, and the licensee's letter dated March 14, 2013, which withdrew the application for license amendment (ADAMS Accession No. ML13074A092).

Dated at Rockville, Maryland, this 13th day of May 2013.
For the Nuclear Regulatory Commission.
Joseph M. Sebrosky,
Senior Project Manager, Plant Licensing Branch IV, Division of Operating Reactor Licensing, Office of Nuclear Reactor Regulation.

[FR Doc. 2013-12070 Filed 5-20-13; 8:45 am]

BILLING CODE 7590-01-P